DEPARTMENT OF THE TREASURY

Bureau of Alcohol, Tobacco and Firearms

27 CFR Part 9

[Notice No. 947]

RIN: 1512-AC62

Establishment of the Oak Knoll District Viticultural Area (2002R-046P)

AGENCY: Bureau of Alcohol, Tobacco and Firearms (ATF), Treasury.

ACTION: Notice of proposed rulemaking.

SUMMARY: The Bureau of Alcohol, Tobacco and Firearms is proposing the establishment of the “Oak Knoll District” viticultural area in Napa County, California. This action is in response to a petition submitted by the Oak Knoll District Committee.

DATES: Written comments must be received by September 9, 2002.

ADDRESSES: Send written comments to: Chief, Regulations Division, Bureau of Alcohol, Tobacco and Firearms, PO Box 50221, Washington, DC 20091-0221 (Attn: Notice No. 947). See the “Public Participation” section of this notice for alternative means of commenting.

Copies of the petition, the proposed regulation, the appropriate maps, and any written comments received will be available for public inspection by appointment during normal business hours at the ATF Reading Room, Room 6480, 650 Massachusetts Avenue, NW., Washington, DC 20226; telephone 202-927-7890.

FOR FURTHER INFORMATION CONTACT: Joanne Brady, Specialist, Regulations Division (Philadelphia, PA), Bureau of Alcohol, Tobacco and Firearms, The Curtis Center, Suite 875, Independence Square West, Philadelphia, PA 19106; telephone 215-597-5288 or e-mail JCBrady@phila.atf.treas.gov.

SUPPLEMENTARY INFORMATION:

Background

The Federal Alcohol Administration Act (FAA Act) at 27 U.S.C. 205(e) requires that alcohol beverage labels provide the consumer with adequate information regarding a product's identity and prohibits the use of deceptive information on such labels. The FAA Act also authorizes the Bureau of Alcohol, Tobacco and Firearms (ATF) to issue regulations to carry out the Act's provisions.

Regulations in 27 CFR part 4, Labeling and Advertising of Wine, allow the establishment of definitive viticultural areas. The regulations allow the name of an approved viticultural area to be used as an appellation of origin on wine labels and in wine advertisements. A list of approved viticultural areas is contained in 27 CFR part 9, American Viticultural Areas.

Section 4.25a(e)(1) of title 27 CFR defines an American viticultural area as a delimited grape-growing region distinguishable by geographic features, the boundaries of which have been delineated in subpart C of part 9.

Section 4.25a(e)(2) outlines the procedure for proposing an American viticultural area. Any interested person may petition ATF to establish a grape-growing region as a viticultural area. The petition should include:

(a) Evidence that the name of the proposed viticultural area is locally and/or nationally known as referring to the area specified in the petition;

(b) Historical or current evidence that the boundaries of the viticultural area are as specified in the petition;

(c) Evidence relating to the geographical characteristics (climate, soil, elevation, physical features, etc.) which distinguish the viticultural features of the proposed area from surrounding areas;

(d) A description of the specific boundaries of the viticultural area, based on features which can be found on United States Geological Survey (U.S.G.S.) maps of the largest applicable scale; and

(e) A copy (or copies) of the appropriate U.S.G.S. map(s) with the boundaries prominently marked.

Oak Knoll District Petition

The Bureau of Alcohol, Tobacco and Firearms (ATF) has received a petition from the Oak Knoll District Committee proposing a new American viticultural area to be called “Oak Knoll District.” As part of its petition, the Committee also submitted reports from historian Charles L. Sullivan and Dr. Deborah L. Elliott-Fisk, a professor at the University of California, Davis, in support of its claims.

The proposed viticultural area is located in the southern end of the Napa Valley in Napa County, California. It includes approximately 9,940 acres, of which 4,040 are plantable to vines. The proposed area would abut the Mt. Veeder viticultural area to the west and the Yountville viticultural area to the north, and would lie entirely within the Napa Valley viticultural area.

Evidence That the Name of the Area is Locally or Nationally Known

According to the Oak Knoll District Committee, the name of the proposed viticultural area is based on both present and historical evidence. The proposed area is the site of the historic Oak Knoll Ranch, which dates from the early days of American settlement in the Napa Valley. The petitioner also provided other examples of the use of the name “Oak Knoll District” or “Oak Knoll” within the proposed area: the area's former school district was known as the Oak Knoll District, a historic train station was called Oak Knoll Station, and the Oak Knoll Inn and Oak Knoll Cellars vineyard were established within the proposed area.

According to the report submitted by Mr. Charles L. Sullivan, Joseph W. Osborne brought the first fine vinifera varieties to the Napa Valley. His ranch, the Oak Knoll Ranch, became famous when it was named California's best-cultivated farm by the State Agricultural Society in 1854 and 1856. Mr. Sullivan also notes that, according to a local newspaper's extensive article on the Oak Knoll estate in 1886, it was called “the richest gem in California's golden crown” and “one of the fairest spots in California's loveliest valley.”

Mr. Sullivan's report noted that in 1886, the Eshcol Ranch Winery was established on what may have been the Oak Knoll Ranch property. The petition contends that the purchase of the Eshcol estate by the Trefethen family in 1968, and the establishment of Trefethen Vineyards, began to transform Oak Knoll into a world-class wine grape growing area.

The petitioner also supplied evidence in the form of articles from various publications and trade magazines that make reference to the “Oak Knoll District.” An excerpt from the Lifestyle section of the August/September 1999 issue of “Wine News” magazine states that the Trefethens bought the 600-acre walnut, wheat, grape, and prune ranch in the “Oak Knoll District of Napa” in 1968.

An article from the May 1999 “Inside Napa Valley, a Visitor's Guide,” states that the “Yountville, Stag's Leap and Oak Knoll districts near Yountville contain some of the most renown[ed] wineries of Napa Valley.” An article from the July 16, 1997, Los Angeles Times states, “Trefethen's 600 acres of vines are in the (not yet legally designated) Oak Knoll District at the cool southern end of Napa Valley, not far from the city of Napa. Over the years, Trefethen's Chardonnays have consistently displayed a distinctive Oak Knoll character.” The petition also notes that Oak Knoll Avenue traverses the proposed viticultural area from Highway 29 on its western side to the Silverado Trail on its eastern side.

The petitioner has requested the name “Oak Knoll District” because the petitioner believes it will identify the proposed area more clearly. The petitioner also believes it eliminates any possible confusion with a winery in Oregon named Oak Knoll. Further, the petitioner noted that just as “District” is used as part of the Stags Leap District and Spring Mountain District viticultural areas within the Napa Valley, the full name indicates an area rather than the name of an existing winery.

Historical or Current Evidence That the Boundaries of the Proposed Viticultural Area Are As Specified in the Application

In his report, Mr. Sullivan states the northern boundary of the proposed Oak Knoll District of Napa Valley is the same as the southern boundary of the Yountville viticultural area, and that the Mt. Veeder viticultural area boundary line to Redwood Road defines part of its western boundary. In her climate and soil report, Professor Deborah L. Elliott-Fisk states the proposed southern boundary of the Oak Knoll District approximates the southern edge of the Dry Creek alluvial fan. She concludes that the most logical west-east line to follow for this boundary is Redwood Road, which becomes Trancas Road to the east of Highway 29. Professor Elliott-Fisk also states that the proposed area's logical eastern boundary is the Silverado Trail.

Evidence Relating to the Geographical Features Which Distinguish Viticultural Features of the Proposed Area From Surrounding Areas

Climate

Professor Elliott-Fisk states that, outside of the Los Carneros viticultural area, the proposed Oak Knoll District is one of the coolest vineyard regions in the Napa Valley viticultural area, with a long, cool growing season for grapevines of approximately eight months.

According to Professor Elliott-Fisk, the Amerine and Winkler classification system rates this area as a Region I to a cool Region II climate in any given year. She notes the low degree day totals have favored the planting of Chardonnay and, to some extent, Pinot Noir as two cooler climate varietals; yet Cabernet Sauvignon and Merlot also do exceptionally well with the proper viticultural management.

Professor Elliott-Fisk also notes that the uniform climate across the proposed area is due to the broad, flat valley floor topography. Along the western and eastern edges of the proposed area, small pockets of an even cooler climate are found in the immediate Napa River floodplain and in the small, first-order stream tributaries on the lower foothill slopes.

Professor Elliott-Fisk also states that the proximity of this area to San Pablo Bay results in a maritime influence, with cool breezes coming off the bay. Coastal fog is also common in the mornings, especially in the summer. The region is classified as sub-humid and receives approximately 28 to 30 inches of precipitation in a normal year. Annual precipitation can reach 60 inches in an abnormally wet year.

Soils

According to the reports and studies cited by Dr. Elliott-Fisk, the soils in the proposed Oak Knoll District are “more uniform than in other approved Napa Valley viticultural areas, due principally to the dominance of the large Dry Creek alluvial fan.” Dr. Elliott-Fisk notes that across the large Dry Creek fan, soils include the fine, gravelly clay loam, silt loam, and loam soils. Dr. Elliott-Fisk states in her report that the proposed southern boundary approximates the southern edge of the Dry Creek alluvial fan. Alluvial deposits from Dry Creek and the Napa River have largely buried the Diablo clays and Haire clay loams within the proposed Oak Knoll District of Napa Valley viticultural area. This contrasts with the area to the south of the proposed viticultural area, Napa City and Los Carneros, where Diablo and Haire soils are common at the surface, as are Yolo and Clear Lake clay soils. The Yolo soils are less well drained, with higher percentages of organic matter, both of which promote vine vigor.

The bedrock, seen in the hillsides along the western edge of the proposed Oak Knoll District, is diverse and primarily volcanic in origin. The West Napa Fault Zone runs along the base of these hills. Serpentine, sandstone, and shale are occasionally found on the hillsides. Towards the toeslope, unusual clay-rich soils are found in many colors, including green, red, yellow, gray and black.

Proposed Boundaries

According to the petitioner, two United States Geological Survey Quadrangle maps (7.5 Minute Series) show the boundaries of the proposed Oak Knoll District viticultural area. The list of maps and the area's proposed boundaries are described in the text of the proposed rule shown below.

Public Participation

Comments Sought

ATF requests comments from all interested persons. ATF is particularly interested in comments concerning the appropriateness of the name “Oak Knoll District” for this proposed viticultural area. Comments received on or before the closing date will be carefully considered. Comments received after that date will be given the same consideration if it is practical to do so. However, assurance of consideration can only be given to comments received on or before the closing date.

ATF will not recognize any submitted material as confidential and comments may be disclosed to the public. Any material which the commenter considers to be confidential or inappropriate for disclosure to the public should not be included in the comments. The name of the person submitting a comment is not exempt from disclosure.

Submitting Comments

By mail: Written comments should be mailed to ATF at the address listed in the ADDRESSES section above.

By fax: Comments may be submitted by facsimile transmission to 215-597-7003, provided the comments:

(1) Are legible;

(2) Are 8½″ × 11″ in size;

(3) Contain a written signature; and

(4) Are three pages or less in length.

This limitation is necessary to assure reasonable public access to the equipment. Comments sent by fax in excess of three pages will not be accepted. Receipt of fax transmittals will not be acknowledged. Facsimile transmitted comments will be treated as originals.

By e-mail: Comments may be submitted by e-mail to nprm@atfhq/treas.gov. E-mail comments must:

(1) Contain your name, mailing address, and e-mail address;

(2) Reference this notice number; and

(3) Be legible when printed.

We will not acknowledge the receipt of e-mail. We will treat comments submitted by e-mail as originals.

By on-line form: Comments may also be submitted using the comment form provided with the online copy of this proposed rule on the ATF Internet web site at http://www.atf.treas.gov.

Public Hearing: Any person who desires an opportunity to comment orally at a public hearing on the proposed regulation should submit his or her request in writing to the Director within the 60-day comment period. The Director reserves the right to determine, however, in light of all circumstances, whether a public hearing will be held.

Reviewing Comments

Copies of the petition, the proposed regulation, the appropriate maps, and any written comments received will be available for public inspection by appointment at the ATF Reading Room, Room 6480, 650 Massachusetts Avenue, NW., Washington, DC 20226. For an appointment, call 202-927-7890. To obtain copies of the comments (at 20 cents per page), contact the ATF librarian in writing at the address above.

For the convenience of the public, ATF will post comments received in response to this notice on the ATF web site. All comments posted on our web site will show the name of the commenter, but will have street addresses, telephone numbers and e-mail addresses removed. We may also omit voluminous attachments or material that we do not consider suitable for posting. In all cases, the full comment will be available in the library or through FOIA requests, as noted above. To access online copies of the comments on this rulemaking, visit http://www.atf.treas.gov/, select “Regulations,” this notice, and then click on the “view comments” link.

Paperwork Reduction Act

The provisions of the Paperwork Reduction Act of 1995, 44 U.S.C. chapter 35, and its implementing regulations, 5 CFR part 1320, do not apply to this notice because no requirement to collect information is proposed.

Regulatory Flexibility Act

ATF certifies that this proposed regulation will not have a significant impact on a substantial number of small entities. The establishment of a viticultural area is neither an endorsement nor approval by ATF of the quality of wine produced in the area, but rather an identification of an area that is distinct from surrounding areas. ATF believes that the establishment of viticultural areas merely allows wineries to more accurately describe the origin of their wines to consumers and helps consumers identify the wines they purchase. Thus, any benefit derived from the use of a viticultural area name is the result of the proprietor's own efforts and consumer acceptance of wines from that area. No new requirements are proposed. Accordingly, a regulatory flexibility analysis is not required.

Executive Order 12866

ATF has determined that this proposed regulation is not a significant regulatory action as defined by Executive Order 12866. Accordingly, this proposal is not subject to the analysis required by this Executive Order.

Drafting Information

The principal author of this document is Joanne Brady, Regulations Division (Philadelphia), Bureau of Alcohol, Tobacco and Firearms.

List of Subjects in 27 CFR Part 9

Administrative practices and procedures, Consumer protection, Viticultural areas, and Wine.

Authority and Issuance

Title 27, Code of Federal Regulations, part 9, American Viticultural Areas, is proposed to be amended as follows:

PART 9—AMERICAN VITICULTURAL AREAS

Paragraph 1. The authority citation for part 9 continues to read as follows:

Authority: 27 U.S.C. 205.

Par. 2. Subpart C is amended by adding § 9.161 to read as follows:

Subpart C—Approved American Viticultural Areas

§ 9.161 Oak Knoll District

(a) Name. The name of the viticultural area described in this section is “Oak Knoll District”.

(b) Approved maps. The appropriate maps for determining the boundary of the Oak Knoll District viticultural area are the following United States Geological Survey Quadrangle maps (7.5 Minute Series):

(1) Napa, California, 1951 (Photo revised 1980); and

(2) Yountville, California, 1951 (Photo revised 1968).

(c) Boundaries. The Oak Knoll District viticultural area is located entirely within Napa County, California. The boundaries of the Oak Knoll District viticultural area, using landmarks and points of reference found on the appropriate U.S.G.S. maps, are as follows:

(1) Beginning at the intersection of State Highway 29 and Trancas Road in the city of Napa on the Napa, CA quadrangle map;

(2) Proceed easterly along Trancas Road until it meets the Napa River;

(3) Proceed southerly along the Napa River approximately 3,500 feet to its confluence with Milliken Creek;

(4) Continue northerly up Milliken Creek to its intersection with Monticello Road;

(5) Then proceed westerly along Monticello Road to its intersection with Silverado Trail;

(6) Then proceed northerly and then northeasterly along Silverado Trail to its intersection with an unimproved dirt road located approximately 1,300 feet north of the intersection of Silverado Trail and Oak Knoll Avenue;

(7) From that point, proceed west in a straight line to the confluence of Dry Creek and the Napa River;

(8) Then proceed northwesterly along Dry Creek onto the Yountville map to the fork in the creek; then northwesterly along the north fork of Dry Creek to its intersection with the easterly end of the light-duty road labeled Ragatz Lane;

(9) Proceed southwesterly along Ragatz Lane to the west side of State Highway 29;

(10) Then proceed southerly along the west side of State Highway 29 for 982 feet to a point marking the easterly extension of the northern boundary of Napa County Assessor's parcel number 034-170-015 (marked in part by a fence along the southern edge of the orchard shown along the west side of State Highway 29 just above the bottom of the Yountville map);

(11) Then proceed westerly for 3,550 feet along the northern boundary of Napa County Assessor's parcel number 034-170-015 and its westerly extension to the dividing line between Range 5 West and Range 4 West on the Napa, CA map;

(12) Then proceed southwest in a straight line to the peak marked with an elevation of 564 feet; then south-southwest in a straight line to the peak marked with an elevation of 835 feet;

(13) Then proceed southwest in a straight line approximately 1,300 feet to the reservoir gauging station located on Dry Creek; then proceed west in a straight line across Dry Creek to the 400 foot contour line;

(14) Proceed along the 400-foot contour line in a generally southeasterly direction to its intersection with the line dividing Range 5 West and Range 4 West; then proceed south along that dividing line approximately 2,400 feet to the center of Redwood Road;

(15) Then proceed southerly and then easterly along Redwood Road to the point of beginning at Highway 29.

Signed: May 17, 2002.
Bradley A. Buckles,
Director.

[FR Doc. 02-16972 Filed 7-8-02; 8:45 am]

BILLING CODE 4810-31-P